DEPARTMENT OF COMMERCE

National Oceanic and Atmospheric Administration (NOAA) Science Advisory Board

AGENCY: Office of Oceanic and Atmospheric Research (OAR), National Oceanic and Atmospheric Administration (NOAA), Department of Commerce (DOC).

ACTION: Notice of public meeting.

SUMMARY: This notice sets forth the schedule and proposed agenda of a forthcoming meeting of the NOAA Science Advisory Board. The members will discuss and provide advice on issues outlined in the agenda below.

DATES: The meeting is scheduled for: September 10, 2008 from 3 p.m. to 5 p.m. Eastern Daylight Time.

ADDRESSES: Conference call. Public access is available at SSMC 3, Room # 12836, 1315 East-West Highway, Silver Spring, MD.

FOR FURTHER INFORMATION CONTACT: Dr. Cynthia Decker, Executive Director, Science Advisory Board, NOAA, Rm. 11230, 1315 East-West Highway, Silver Spring, Maryland 20910. (Phone: 301-734-1156, Fax: 301-713-1459, E-mail: Cynthia.Decker@noaa.gov).

SUPPLEMENTARY INFORMATION: The Science Advisory Board (SAB) was established by a Decision Memorandum dated September 25, 1997, and is the only Federal Advisory Committee with responsibility to advise the Under Secretary of Commerce for Oceans and Atmosphere on strategies for research, education, and application of science to operations and information services. SAB activities and advice provide necessary input to ensure that National Oceanic and Atmospheric Administration (NOAA) science programs are of the highest quality and provide optimal support to resource management.

Matters to be Considered: The agenda for the meeting is as follows:

Date and Time: September 10, 2008 from 3 p.m. to 5 p.m. ET.

Agenda

1. Discussion and consideration of the Draft Report on the Review of the NOAA Climate Research and Modeling Program, submitted to the SAB by the Climate Working Group.

2. SAB Strategic Planning—for future meetings and for the upcoming Administration transition.

3. Discussion and consideration of the way forward for the SAB on Oceans and Human Health.

Dated: August 27, 2008.
Mark E. Brown,
Chief Financial Officer, Office of Oceanic and Atmospheric Research, National Oceanic and Atmospheric Administration.

[FR Doc. E8-20425 Filed 9-2-08; 8:45 am]

BILLING CODE 3510-KD-P